DEPARTMENT OF AGRICULTURE

Animal and Plant Health Inspection Service

7 CFR Parts 305 and 319

[Docket No. APHIS-2007-0061]

RIN 0579-AC40

Importation of Blueberries From South Africa, Uruguay, and Argentina With Cold Treatment; Correction

AGENCY: Animal and Plant Health Inspection Service, USDA.

ACTION: Proposed rule; correction.

SUMMARY: We are correcting an error in our proposed rule to amend the regulations to allow the importation into the continental United States of fresh blueberries from South Africa and Uruguay under certain conditions and to allow the use of cold treatment for blueberries imported into the United States from Argentina. The proposed rule was published in the Federal Register on June 5, 2007 (72 FR 30979-30984, Docket No. APHIS 2007-0061).

FOR FURTHER INFORMATION CONTACT: Mr. Tony Román, Import Specialist, Commodity Import Analysis and Operation Staff, PPQ, APHIS, 4700 River Road Unit 133, Riverdale, MD 20737-1231; (301) 734-8758.

SUPPLEMENTARY INFORMATION: On June 5, 2007, we published in the Federal Register (72 FR 30979-30984, Docket No. APHIS-2007-0061) a proposed rule to allow the importation into the continental United States of fresh blueberries from South Africa and Uruguay under certain conditions. As a condition of entry, the blueberries would have to undergo cold treatment and would have to be accompanied by a phytosanitary certificate issued by the national plant protection organization (NPPO) of the exporting country. In addition, we also proposed to allow the use of cold treatment for blueberries imported into the United States from Argentina.

In two places in the Supplementary Information section of the proposed rule and in one place in the regulatory text, we stated that we would require shipments of blueberries from South Africa and Uruguay to be accompanied by a phytosanitary certificate issued by the NPPO of the importing country. This information was incorrect. We should have stated that we would require shipments of blueberries from South Africa and Uruguay to be accompanied by a phytosanitary certificate issued by the NPPO of the exporting country. This document corrects those errors.

Correction

In FR Doc. E7-10818, published on June 5, 2007 (72 FR 30979-30984) make the following corrections: On page 30980, first column, fourteenth line following the second table; on page 30981, first column, tenth line; and on page 30984, first column, in proposed § 319.56-2vv(b), correct “importing” to read “exporting”.

Done in Washington, DC, this 11th day of June 2007.
Kevin Shea,
Acting Administrator, Animal and Plant Health Inspection Service.

[FR Doc. E7-11616 Filed 6-14-07; 8:45 am]

BILLING CODE 3410-34-P